NATIONAL COUNCIL ON DISABILITY

Establishment of Advisory Committee

AGENCY: National Council on Disability (NCD).

SUMMARY: This notice announces the establishment of NCD's Cultural Diversity Advisory Committee.

FOR FURTHER INFORMATION CONTACT: Mark S. Quigley, Committee Management Officer, National Council on Disability, 1331 F Street NW, Suite 1050, Washington, DC 20004-1107; 202-272-2004 (voice), 202-272-2074 (TTY), 202-272-2022 (fax), mquigley@ncd.gov (e-mail).

Agency Mission

NCD is an independent federal agency making recommendations to the President and Congress on disability policy. It is composed of 15 members appointed by the President of the United States and confirmed by the U.S. Senate. NCD's overall purpose is to promote policies, programs, practices, and procedures that guarantee equal opportunity for all people with disabilities, regardless of the nature of severity of the disability; and to empower people with disabilities to achieve economic self-sufficiency, independent living, and inclusion and integration into all aspects of society.

Cultural Diversity Advisory Committee

The purpose of NCD's Cultural Diversity Advisory Committee is to provide advice and recommendations to NCD on issues affecting people with disabilities from culturally diverse backgrounds. Specifically, the committee will help identify issues, expand outreach, infuse participation, and elevate the voices of underserved and unserved segments of this nation's population that will help NCD develop federal policy that will address the needs and advance the civil and human rights of people from diverse cultures.

This committee is necessary because people with disabilities from culturally diverse backgrounds face dual discrimination and are disproportionately represented among those with disabilities.

This committee will have a balanced membership representing a variety of disabling conditions and culturally diverse populations from across the United States.

Signed in Washington, DC, on December 12, 2000.
Ethel D. Briggs,
Executive Director.

[FR Doc. 00-32096 Filed 12-15-00; 8:45 am]

BILLING CODE 6820-MA-M